NATIONAL AERONAUTICS AND SPACE ADMINISTRATION

[Notice: (15-106)]

NASA Advisory Council; Science Committee; Heliophysics Subcommittee; Meeting

AGENCY: National Aeronautics and Space Administration.

ACTION: Notice of meeting.

SUMMARY: In accordance with the Federal Advisory Committee Act, Public Law 92-463, as amended, the National Aeronautics and Space Administration (NASA) announces a meeting of the Heliophysics Subcommittee of the NASA Advisory Council (NAC). This Subcommittee reports to the Science Committee of the NAC. The meeting will be held for the purpose of soliciting, from the scientific community and other persons, scientific and technical information relevant to program planning.

DATES: Monday, December 7, 2015, 3:00 p.m.-4:30 p.m., EST.

FOR FURTHER INFORMATION CONTACT: Ms. Ann Delo, Science Mission Directorate, NASA Headquarters, Washington, DC 20546, (202) 358-0750, fax (202) 358-2779, or ann.b.delo@nasa.gov.

SUPPLEMENTARY INFORMATION: This meeting will be available telephonically and via WebEx. Any interested person may call the USA toll free conference call number 877-918-1347, passcode 1253083, to participate in this meeting by telephone. The WebEx link is https://nasa.webex.com. The meeting number is 993 050 454 and the password is HPStelecon127! The agenda for the meeting includes the following topic:

—Research Opportunities in Space and Earth Sciences (ROSES) 2016 Supporting Research Program

It is imperative that the meeting be held on this date to accommodate the scheduling priorities of the key participants.

Patricia D. Rausch,
Advisory Committee Management Officer, National Aeronautics and Space Administration.

[FR Doc. 2015-30249 Filed 11-27-15; 8:45 am]

BILLING CODE 7510-13-P